DEPARTMENT OF JUSTICE

Federal Bureau of Prisons

Notice of the Availability of the Finding of No Significant Impact for the Criminal Alien Requirement VI

AGENCY: Federal Bureau of Prisons, Department of Justice.

ACTION: Notice; Finding of No Significant Impact.

SUMMARY: The U.S. Department of Justice, Federal Bureau of Prisons (BOP) announces the availability of the Finding of No Significant Impact (FONSI) concerning the Criminal Alien Requirement VI (CAR VI). The BOP is seeking flexibility in managing its current shortage of beds by contracting for those services with non-federal facilities to house federal inmates. This approach provides the BOP with flexibility to meet population capacity needs in a timely fashion, conform with federal law, and maintain fiscal responsibility, while successfully attaining the mission of the BOP. Initially, the BOP proposed to contract with multiple public and private corporations to house approximately 7,000 Federal, low-security, adult male, non-U.S. citizen, criminal aliens in existing Contractor-Owned/Contractor-Operated facilities located in Arizona, California, Louisiana, New Mexico, Oklahoma, or Texas. The awards would be granted to the responsible offerors whose offers are found to be most advantageous to the Government. Five existing facilities, have been offered in response to the BOP's solicitation for services. The five responses provided a combined total of 10,243 beds. Environmental impacts of each facility have been evaluated in a combined Environmental Assessment (EA) based primarily on information provided by the Offerors. The EA evaluated the full effects of the potentially available of 10,243 inmate beds.

Background Information

Pursuant to Section 102(2)(c) of the National Environmental Policy Act of 1969 and the Council of Environmental Quality Regulations (40 CFR parts 1500-1508), BOP has prepared EA to contract with multiple public and private corporations to house approximately 7,000 federal, low-security, adult male, non-U.S. citizen, criminal aliens in existing Contractor-Owned/Contractor-Operated facilities located in Arizona, California, Louisiana, New Mexico, Oklahoma, or Texas. Five existing facilities, have been offered in response to the BOP's solicitation for services.

The five responses provided a combined total of 10,243 beds. The EA was published on December 12, 2006, for a 30-day comment period and prepared pursuant to NEPA.

Project Information

The BOP is responsible for carrying out judgements of the Federal courts whenever a period of confinement is ordered. Subsequently, the mission of the BOP is to protect society by confining offenders in the controlled environments of prisons and community-based facilities that are safe, humane, cost-efficient, and appropriately secure, and that provide work and other self-improvement opportunities to assist offenders in becoming law-abiding citizens. Approximately 162,200 inmates are currently housed within the 114 federal correctional institutions that have levels of security ranging from minimum to maximum; a number exceeding the combined rated capacities of all federal correctional facilities. Measures being taken to manage the growth of the federal inmate population include construction of new institutions, acquisition and adaptation of facilities originally intended for other purposes, expansion and improvement of existing correctional facilities, and expanded use of contract beds. Adding capacity through these various means allows the BOP to work toward the long-term goal of reduced system-wide crowding.

Alternatives Considered

The No Action alternative is defined as a decision not to proceed with the proposed action to award a contract to house the described population. Instead, the BOP would continue the current and long-standing arrangement whereby low-security, adult male, criminal alien inmate populations are housed in facilities owned and operated by the BOP as well as with state, local, and private residential reentry centers and in alternative confinement. Adoption of the No Action alternative would avoid the potential impacts associated with use of a Contractor-Owned/Contractor-Operated correctional facility to house low-security, federal inmates.

Under the No Action alternative, the beneficial impacts on local and regional economies resulting from operational budget expenditures at potentially vacant or underutilized correctional facilities would not occur. The loss of jobs is likely at some facilities under the No Action alternative. The No Action alternative does not meet the purpose and need of the BOP's Action alternative and would not address the demand for additional capacity to house the increasing federal inmate population.

Five locations were evaluated in the EA. Because any given facility could be awarded a number of inmates up to its capacity, potential impacts at each facility were evaluated based upon its maximum possible capacity. The facilities and respective inmate populations evaluated were:

Big Spring Correctional Center (BSCC), located in Big Springs, Texas, evaluated for its maximum capacity under this action to provide 3,307 beds.

Eden Detention Center (EDC), Eden, Texas, evaluated for its maximum capacity to provide 1,556 beds.

Giles W. Dalby Correction Center (GDCC) of Post, Texas, evaluated for its maximum capacity to provide 1,670 beds.

Pine Prairie Correctional Facility (PPCF), Pine Prairie, Louisiana, evaluated for its maximum capacity to provide 1,090 beds.

Reeves County Detention Center (RCDC), located in Pecos, Texas, evaluated for its maximum capacity to provide 2,620 beds.

The impacts of the Action alternative on the environment were considered in an EA published on December 12, 2006, and prepared pursuant to NEPA. The EA evaluated the full effects of the potentially available of 10,243 inmate beds. Review of the EA with the necessary mitigation has led to a Finding of No Significant Impact (FONSI), as that phrase is defined pursuant to NEPA. The Action alternative would result in negligible impacts to public services of host communities. There would be no significant adverse impacts to surrounding land uses, utility systems, traffic patterns or other community considerations. No significant adverse on-site impacts as defined pursuant to NEPA are anticipated as a result of the Action alternative. After review of the comments received from interested agencies and local citizens concerning the EA, the BOP signed a FONSI for the Action alternative.

Notice of Availability

BOP provided written notices of the availability of the EA in five newspapers with local and regional circulations, and through five local public libraries. The BOP also distributed approximately 175 copies (each) of the EA to Federal and State agencies, state and local governments, elected officials, interested organizations, and individuals.

Availability of The Finding of No Significant Impact

The Finding of No Significant Impact and other information regarding this project are available upon request. To request a copy of the Finding of No Significant Impact, please contact: Pamela J. Chandler, Chief, or Issac J. Gaston, Site Selection Specialist, Site Selection and Environmental Review Branch, Federal Bureau of Prisons, 320 First Street, NW., Washington, DC 20534. Tel: 202-514-6470/Fax: 202-616-6024/E-mail: pchandler@bop.gov-igaston@bop.gov.

FOR FURTHER INFORMATION CONTACT: Pamela J. Chandler, or Issac J. Gaston, Federal Bureau of Prisons.

Dated: January 26, 2007.
Issac J. Gaston,
Site Selection Specialist, Site Selection and Environmental Review Branch.

[FR Doc. E7-1624 Filed 2-1-07; 8:45 am]

BILLING CODE 4410-5-P